DEPARTMENT OF DEFENSE

Department of the Army

Notice of Intent To Prepare an Environmental Impact Statement (EIS) for Disposal and Reuse of Fort Monroe, VA, Resulting From the 2005 Base Closure and Realignment Commission's Recommendations

AGENCY: Department of the Army, DoD.

ACTION: Notice of Availability.

SUMMARY: The Department of the Army intends to prepare an EIS for the disposal and reuse of Fort Monroe, Hampton, Virginia. Pursuant to the BRAC law, Fort Monroe is to close by September 14, 2011. Other actions included in the closing of Fort Monroe are relocating the Headquarters, U.S. Army Training and Doctrine Command (TRADOC); the Installation Management Command (IMCOM) Northeast Region; the U.S. Army Network Enterprise Technology Command (NETCOM) Northeast Region; and the Army Contracting Agency Northeast Region Office to Fort Eustis, Virginia. The U.S. Army Accessions Command and the U.S. Army Cadet Command will be relocated to Fort Knox, Kentucky. These relocations have been or will be addressed in separate National Environmental Policy Act (NEPA) documents for those locations.

DATES: The scoping meeting for the EIS will be held on October 28, 2008, 7 p.m. to 9 p.m., Northampton Community Center, 1435 Todds Lane, Hampton, VA 23666.

FOR FURTHER INFORMATION CONTACT: Ms. Jennifer Guerrero; phone: (757) 788-5363; e-mail: jennifer.lee.guerrero@us.army.mil.

SUPPLEMENTARY INFORMATION: Fort Monroe is a 570-acre U.S. Army Garrison located at the southeastern tip of the Virginia Lower Peninsula between Hampton Roads and the Lower Chesapeake Bay. The hallmark of Fort Monroe is its stone fortress and moat.

The proposed action (Army primary action) is to dispose of the surplus property generated by the BRAC-mandated closure of Fort Monroe. Reuse of Fort Monroe by others is a secondary action resulting from disposal. The Army has identified two disposal alternatives (early transfer and traditional disposal), a caretaker status alternative, and the no action alternative (as required by NEPA). The EIS will analyze the impact of each reuse alternative upon a wide range of environmental resource areas including, but not limited to, air quality, traffic, noise, biological resources, water resources, geology and soils, cultural resources, socioeconomic, utilities, land use, aesthetics and visual resources, hazardous and toxic substances, and cumulative environmental effects.

The Army will conduct an environmental impact analysis that will focus on the effects of closure and reuse. One preliminary finding is that transportation impacts will have the most significant effect, with or without a major tourism component in the reuse plan. Also, at this early stage, impacts to air quality, infrastructure, and land use are not considered significant. With respect to cultural resources, significant adverse impacts are possible, but these can be mitigated by provisions contained in the Programmatic Agreement between the Army and the Virginia Department of Historic Resources.

Additional resources and conditions may be identified as a result of the scoping process initiated by this NOI. Other opportunities for public participation will be announced in the respective local news media. The public will be invited to participate in scoping activities for the EIS and comments from the public will be considered before any action is taken to implement the disposal and reuse of Fort Monroe.

Dated: September 12, 2008.
Addison D. Davis, IV,
Deputy Assistant Secretary of the Army (Environment, Safety and Occupational Health).

[FR Doc. E8-21807 Filed 9-18-08; 8:45 am]

BILLING CODE 3710-08-M